DEPARTMENT OF AGRICULTURE

Office of the Secretary

7 CFR Part 1

RIN 0551-AA61

Administrative Regulations for the Freedom of Information Act

AGENCY: Office of the Secretary, USDA.

ACTION: Final rule.

SUMMARY: The Foreign Agricultural Service is issuing administrative guidelines to govern the availability of records under the Freedom of Information Act (FOIA).

EFFECTIVE DATE: July 11, 2002.

FOR FURTHER INFORMATION CONTACT: Donald Washington, FOIA Officer, Foreign Agricultural Service, at (202) 720-3101.

SUPPLEMENTARY INFORMATION:

Executive Order 12866

This rule is issued in conformance with Executive Order 12866. It has been determined to be significant for purposes of Executive Order 12866 and, therefore, has been reviewed by the Office of Management and Budget (OMB).

Executive Order 12988

This rule has been reviewed under Executive Order 12988, Civil Justice Reform. This rule: (1) Preempts State and local laws and regulations that are inconsistent with this rule; (2) has not retroactive effect; and (3) does not require administrative proceedings before parties may file suit in court challenging this rule.

Regulatory Flexibility Act

The FAS Administrator certifies that this rule will not have a significant economic impact on substantial number of small entities. This rule implements the Freedom of Information Act, as statute concerning the release of Federal Government records, and does not economically impact the private sector.

Paperwork Reduction Act

USDA certifies that this rule does not impose any reporting or record keeping requirements under the Paperwork Reduction Act of 1995.

Effective Date

Because this regulation involves agency management, FAS is not required to publish a notice of proposed rulemaking and the regulation may be effective upon publication.

Background

This regulation constitutes the Foreign Agricultural Service's compliance with the directive in 7 CFR 1.3 that each agency of the Department of Agriculture publish specified information regarding the availability of records under the Freedom of Information Act (FOIA).

List of Subjects in 7 CFR Part 1520

Administrative practice and procedure, Freedom of Information, Privacy.

Accordingly, part 1520 of 7 CFR is revised to read as follows:

PART 1520—AVAILABILITY OF INFORMATION TO THE PUBLIC

Sec.
1520.1 General statements.
1520.2 Location and hours.
1520.3 Indexes/Record Systems.
1520.4 Agency FOIA Officer.
1520.5 Agency Appeal Official.
1520.6 Other information.

Authority: 5 U.S.C. 552

§ 1520.1 General statement.

This part is issued in accordance with the regulations of the Secretary of Agriculture 7 CFR, part 1—Administrative Regulations, Subpart A—Official Records, § 1.3, Agency Implementing Regulations, for the Freedom of Information Act (5 U.S.C. 552). The Secretary's Regulations, as implemented by the regulations in this part govern the availability of records of the Foreign Agricultural Service (FAS) to the public.

§ 1520.2 Location and hours.

Members of the public should contact the FAS FOIA Officer to arrange a place and time to review documents. Contact the U.S. Department of Agriculture, Foreign Agriculture Service, Public Affairs Division, 1400 Independence Avenue SW., Washington, DC 20250-1004. The office will be open from 8:30 a.m. to 5 p.m. Monday through Friday, except national holidays, Tel.: 202-720-3448, Fax: 202-720-1727.

§ 1520.3 Indexes/Record systems.

5 U.S.C. 552(a)(2) required that each agency publish or otherwise make available a current index of all materials for public inspection and copying. The Foreign Agricultural Service maintains the following record systems. FAS regulations, manuals, and notices; attache reports; general publications; and statements of policy and procedures for various FAS programs. Copies of the FAS index may be obtained free of charge by contacting the office specified in § 1520.2.

§ 1520.4 Agency FOIA Officer.

Requests for records shall be made to the Freedom of Information Officer, Public Affairs Division, Foreign Agricultural Service, Ag Box 1004, U.S. Department of Agriculture, 1400 Independence Avenue, SW., Washington, DC 20250-1004. Tel.: 202-720-3448, Fax: 202-720-1727.

§ 1520.5 Agency Appeal Official.

Any person whose request under § 1520.4 is denied shall have the right to appeal such a denial. For appeals, write to the following official and mark your letters “FOIA Appeal”: Administrator, Foreign Agricultural Service, U.S. Department of Agriculture, 1400 Independence Avenue SW., Washington, DC 20250-1004, Attn: FOIA Appeal.

§ 1520.6 Other information.

Many documents are available to the public without having to file an FOIA request. These include press releases, speeches, congressional testimony, program regulations, and some letters and memoranda. Some of this information can be found on the FAS web site, www.fas.uda.gov. Also, the FAS annual FOIA report is available on the agency's web site at www.fas.usda.gov. Click on FOIA at the bottom of the page. To request a paper copy of the FAS FOAI annual report, write to: Foreign Agricultural Service, U.S. Department of Agriculture, 1400 Independence Ave. SW., Ag Box 1004, Washington, DC 20250-1004, Attn: Freedom on Information Officer.

Dated: July 3, 2002.
A. Ellen Terpstra,
Administrator, Foreign Agricultural Service.

[FR Doc. 02-17452 Filed 7-10-02; 8:45 am]

BILLING CODE 3410-10-M